DEPARTMENT OF JUSTICE

Notice of Lodging of Consent Decree Under the Clean Air Act and the Emergency Planning and Community Right-To-Know Act

Under 28 CFR 50.7, notice is hereby given that on September 16, 2003, a proposed Consent Decree in United States v. Capital Cabinet Corp., Civil Action No. CV-S-03-1146-RLH-LRL, was lodged with the United States District Court for the District of Nevada.

In this action the United States sought injunctive relief and civil penalties under section 113(b) of the Clean Air Act, 42 U.S.C. 7413(b), and civil penalties under section 325(c)(1) of the Emergency Planning and Community Right-to-Know Act, 42 U.S.C. 11045(c), concerning the operation by Capital Cabinet Corp. (“Capital”) of a wood furniture manufacturing facility in North Las Vegas, Nevada (“Facility”).

Under the proposed Consent Decree, Capital would be required to limit its emissions of volatile organic compounds (“VOCs”) to twenty-five tons per year, and three tons per month, for a minimum of five years, unless it were to convert all of its production coatings to coatings containing minimal levels of VOCs, or to install appropriate add-on controls, in which case the Facility would no longer be subject to annual or monthly VOC emissions limits. In addition, under the proposed Consent Decree, Capital would be required to be in full compliance with the National Emission Standard for Hazardous Air Pollutants for Wood Furniture Manufacturing Operations, codified at 40 CFR Part 63, Subpart JJ, within six months of entry of the Consent Decree, and to pay a civil penalty of $142,000.

The Department of Justice will receive for a period of thirty (30) days from the date of this publication comments relating to the Consent Decree. Comments should be addressed to the Assistant Attorney General, Environment and Natural Resources Division, P.O. Box 7611, U.S. Department of Justice, Washington, DC 20044-7611, with a copy to Matthew A. Fogelson, Trail Attorney, U.S. Department of Justice, Environment and Natural Resources Division, Environmental Enforcement Section, 301 Howard Street, Suite 1050, San Francisco, CA 94105, and should refer to United States v. Capital Cabinet Corp., D.J. Ref. 90-5-2-1-07221.

The Consent Decree may be examined at the Office of the United States Attorney, 333 South Las Vegas Boulevard, Lloyd George Federal Building, Las Vegas, NV, and at U.S. EPA Region IX, 75 Hawthorne Street, San Francisco, CA. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.25 (25 cents per page reproduction cost) payable to the U.S. Treasury.

Ellen M. Mahan,
Assistant Section Chief, Environmental Enforcement Section.

[FR Doc. 03-24301 Filed 9-24-03; 8:45 am]

BILLING CODE 4410-15-M